DEPARTMENT OF COMMERCE

International Trade Administration

[A-122-814]

Pure Magnesium From Canada; Notice of Extension of Time Limit for 2000-2001 Administrative Review

AGENCY: Import Administration, International Trade Administration, Department of Commerce.

ACTION: Notice of Extension of Time Limit.

SUMMARY: The Department of Commerce is extending the time limit for the preliminary results of the current review of the antidumping duty order on pure magnesium from Canada. The period of review is August 1, 2000 through July 31, 2001. This extension is made pursuant to section 751(a)(3)(A) of the Tariff Act of 1930, as amended by the Uruguay Round Agreements Act.

EFFECTIVE DATE: April 15, 2002.

FOR FURTHER INFORMATION CONTACT: Jarrod Goldfeder or Scott Holland, Import Administration, International Trade Administration, U.S. Department of Commerce, 14th Street and Constitution Avenue, NW, Washington DC 20230; telephone (202) 482-0189 or (202) 482-1279, respectively.

SUPPLEMENTARY INFORMATION:

Applicable Statute

Unless otherwise indicated, all citations to the statute are references to the provisions effective January 1, 1995, the effective date of the amendments made to the Tariff Act of 1930 (“the Act”) by the Uruguay Round Agreements Act, and all citations to the regulations are to 19 CFR Part 351 (2001).

Statutory Time Limits

Section 751(a)(3)(A) of the Act requires the Department to issue the preliminary results of an administrative review within 245 days after the last day of the anniversary month of an order for which a review is requested and a final determination within 120 days after the date on which the preliminary results are published. If it is not practicable to complete the review within the time period, section 751(a)(3)(A) of the Act allows the Department to extend these deadlines to a maximum of 365 days and 180 days, respectively.

Background

On September 24, 2001, the Department published a notice of initiation of administrative review of the antidumping duty order on pure magnesium from Canada, covering the period August 1, 2000, through July 31, 2001 (66 FR 49924). The preliminary results for the antidumping duty administrative review of pure magnesium from Canada are currently due no later than May 3, 2002.

Extension of Time Limits for Preliminary Results

Due to the complexity of the issues, it is not practicable to complete this review within the originally anticipated time limit (i.e., May 3, 2002). See Memorandum from Team to Richard W. Moreland, “Extension of Time Limit for Preliminary Results,” dated, February 1, 2001. Therefore, the Department of Commerce is extending the time limit for completion of the preliminary results to not later than September 3, 2002, in accordance with section 751(a)(3)(A) of the Act.

We are issuing and publishing this notice in accordance with sections 751(a)(1) and 777(i)(1) of the Act.

Dated: April 9, 2002
Susan Kuhback,
Acting Deputy Assistant Secretary for AD/CVD Enforcement.

[FR Doc. 02-9079 Filed 4-12-02; 8:45 am]

BILLING CODE 3510-DS-S